DEPARTMENT OF HOMELAND SECURITY

Coast Guard

33 CFR Chapter I

[USCG-2004-19615]

Exclusion Zones for Marine LNG Spills

AGENCY: Coast Guard, DHS.

ACTION: Request for public comments; correction.

SUMMARY: The Coast Guard published a document in the Federal Register on November 3, 2004, requesting comments on a petition for rulemaking from the City of Fall River. That document contained an incorrect docket number for the submission of comments.

FOR FURTHER INFORMATION CONTACT: If you have questions on this notice, please call Commander John Cushing at 202-267-1043, or e-mail JCushing@comdt.uscg.mil. If you have questions on viewing or submitting material to the docket, please call Ms. Andrea M. Jenkins, Program Manager, Docket Operations, telephone 202-366-0271.

Correction

In the Federal Register of November 3, 2004, in FR Doc. 04-24454, on page 63979, the docket number is incorrect. The docket number is corrected to read (USCG-2004-19615) each place that it appears.

Dated: November 8, 2004.
David L. Nichols,
Commander, U.S. Coast Guard, Acting Chief, Office of Regulations, and Administrative Law.

[FR Doc. 04-25254 Filed 11-12-04; 8:45 am]

BILLING CODE 4910-15-P